DEPARTMENT OF COMMERCE

National Oceanic and Atmospheric Administration

RIN 0648-XD639

Fisheries of the Exclusive Economic Zone Off Alaska; North Pacific Halibut and Sablefish Individual Fishing Quota Cost Recovery Programs

AGENCY: National Marine Fisheries Service (NMFS), National Oceanic and Atmospheric Administration (NOAA), Commerce.

ACTION: Notification of standard prices and fee percentage.

SUMMARY: NMFS publishes individual fishing quota (IFQ) standard prices and fee percentage for the IFQ cost recovery program in the halibut and sablefish fisheries of the North Pacific. The fee percentage for 2014 is 2.6%. This action is intended to provide holders of halibut and sablefish IFQ permits with the 2014 standard prices and fee percentage to calculate the required payment for IFQ cost recovery fees due by January 31, 2015.

DATES: Effective December 9, 2014.

FOR FURTHER INFORMATION CONTACT: Troie Zuniga, Fee Coordinator, 907-586-7105.

SUPPLEMENTARY INFORMATION:

Background

NMFS Alaska Region administers the halibut and sablefish individual fishing quota (IFQ) program in the North Pacific. The IFQ program is a limited access system authorized by the Magnuson-Stevens Fishery Conservation and Management Act (Magnuson-Stevens Act) and the Northern Pacific Halibut Act of 1982. Fishing under the IFQ program began in March 1995. Regulations implementing the IFQ program are set forth at 50 CFR part 679.

In 1996, the Magnuson-Stevens Act was amended to, among other things, require the Secretary of Commerce to “collect a fee to recover the actual costs directly related to the management and enforcement of any . . . individual quota program.” This requirement was further amended in 2006 to include collection of the actual costs of data collection, and to replace the reference to “individual quota program” with a more general reference to “limited access privilege program” at section 304(d)(2)(A). This section of the Magnuson-Stevens Act also specifies an upper limit on these fees, when the fees must be collected, and where the fees must be deposited.

On March 20, 2000, NMFS published regulations implementing the IFQ cost recovery program (65 FR 14919), which are set forth at § 679.45. Under the regulations, an IFQ permit holder incurs a cost recovery fee liability for every pound of IFQ halibut and IFQ sablefish that is landed on his or her IFQ permit(s). The IFQ permit holder is responsible for self-collecting the fee liability for all IFQ halibut and IFQ sablefish landings on his or her permit(s). The IFQ permit holder is also responsible for submitting a fee liability payment to NMFS on or before the due date of January 31 of the year following the year in which the IFQ landings were made. The dollar amount of the fee due is determined by multiplying the annual IFQ fee percentage (3 percent or less) by the ex-vessel value of all IFQ landings made on a permit and summing the totals of each permit (if more than one).

Standard Prices

The fee liability is based on the sum of all payments made to fishermen for the sale of the fish during the year. This includes any retro-payments (e.g., bonuses, delayed partial payments, post-season payments) made to the IFQ permit holder for previously landed IFQ halibut or sablefish.

For purposes of calculating IFQ cost recovery fees, NMFS distinguishes between two types of ex-vessel value: Actual and standard. Actual ex-vessel value is the amount of all compensation, monetary or non-monetary, that an IFQ permit holder received as payment for his or her IFQ fish sold. Standard ex-vessel value is the default value on which to base fee liability calculations. IFQ permit holders have the option of using actual ex-vessel value if they can satisfactorily document it; otherwise, the standard ex-vessel value is used.

Regulations at § 679.45(c)(2)(i) require the Regional Administrator to publish IFQ standard prices during the last quarter of each calendar year. These standard prices are used, along with estimates of IFQ halibut and IFQ sablefish landings, to calculate standard values. The standard prices are described in U.S. dollars per IFQ equivalent pound for IFQ halibut and IFQ sablefish landings made during the year. IFQ equivalent pound(s) is the weight (in pounds) for an IFQ landing, calculated as the round weight for sablefish, and headed and gutted net weight for halibut. NMFS calculates the standard prices to closely reflect the variations in the actual ex-vessel values of IFQ halibut and IFQ sablefish landings by month and port or port-group. The standard prices for IFQ halibut and IFQ sablefish are listed in the tables that follow the next section. Data from ports are combined as necessary to protect confidentiality.

Fee Percentage

Section 304(d)(2)(B) of the Magnuson-Stevens Act specifies a maximum fee of 3 percent of the ex-vessel value of fish harvested under an IFQ program. NMFS annually sets a fee percentage for halibut and sablefish IFQ holders that is based on the actual annual costs associated with certain management and enforcement functions, as well as the standard ex-vessel value of the catch subject to the IFQ fee for the current year. The method used by NMFS to calculate the IFQ fee percentage is described at § 679.45(d)(2)(ii).

Regulations at § 679.45(d)(3)(i) require NMFS to publish the IFQ fee percentage for the halibut and sablefish IFQ fisheries in the Federal Register during or before the last quarter of each year. For the 2014 halibut and sablefish IFQ fishing season, an IFQ permit holder is to use a fee liability percentage of 2.6% to calculate his or her fee for landed IFQ in pounds. The IFQ permit holder is responsible for submitting the fee liability payment to NMFS on or before January 31, 2015.

The 2014 fee liability percentage of 2.6% is a decrease of 0.2% from the 2013 fee liability of 2.8% (78 FR 77869, December 4, 2013). The decrease in the IFQ fee percentage in 2014 is due to an increase in the total standard ex-vessel value of the halibut and sablefish fisheries as a result of significantly higher ex-vessel prices which compensated for the lower catch limits in 2014. The NMFS management and enforcement costs for the IFQ program remained constant from 2013 to 2014.

Registered Buyer Standard Ex-Vessel Prices by Landing Location for 2014 IFQ Season ¹
Landing location | Period ending | Halibut standard ex-vessel price | Sablefish standard ex-vessel price
CORDOVA | March 31 |  |
| April 30 |  |
| May 31 | 6.49 |
| June 30 |  |
| July 31 | 7.29 |
| August 31 | 6.79 |
| September 30 | 6.57 |
| October 31 | 6.57 |
| November 30 | 6.57 |
HOMER | March 31 | 6.29 |
| April 30 | 6.32 |
| May 31 | 6.26 | 3.37
| June 30 | 6.73 | 3.40
| July 31 | 7.08 |
| August 31 | 6.72 | 3.68
| September 30 | 6.51 | 3.66
| October 31 | 6.51 | 3.66
| November 30 | 6.51 | 3.66
KETCHIKAN | March 31 | 6.10 |
| April 30 | 6.46 |
| May 31 | 6.37 |
| June 30 | 6.39 |
| July 31 | 6.35 |
| August 31 | 6.44 |
| September 30 | 6.80 |
| October 31 | 6.80 |
| November 30 | 6.80 |
KODIAK | March 31 | 6.01 |
| April 30 | 5.96 | 3.20
| May 31 | 6.09 | 3.34
| June 30 | 6.65 | 3.61
| July 31 | 6.62 | 3.57
| August 31 | 6.63 | 4.06
| September 30 | 6.54 | 3.97
| October 31 | 6.54 | 3.97
| November 30 | 6.54 | 3.97
PETERSBURG | March 31 |  |
| April 30 |  |
| May 31 |  |
| June 30 | 6.52 |
| July 31 | 6.85 |
| August 31 |  |
| September 30 |  |
| October 31 |  |
| November 30 |  |
SEWARD | March 31 |  |
| April 30 |  |
| May 31 |  |
| June 30 |  |
| July 31 | 7.72 |
| August 31 |  |
| September 30 |  |
| October 31 |  |
| November 30 |  |
YAKUTAT | March 31 |  |
| April 30 |  |
| May 31 |  |
| June 30 |  |
| July 31 | 6.92 |
| August 31 |  |
| September 30 |  |
| October 31 |  |
| November 30 |  |

Port group | Period ending | Halibut standard ex-vessel price | Sablefish standard ex-vessel price
BERING SEA ² | March 31 |  |
| April 30 |  |
| May 31 | 5.36 | 3.82
| June 30 | 5.56 | 4.33
| July 31 | 5.75 |
| August 31 | 5.83 | 4.49
| September 30 | 5.87 | 3.99
| October 31 | 5.87 | 3.99
| November 30 | 5.87 | 3.99
CENTRAL GULF ³ | March 31 | 6.28 | 3.25
| April 30 | 6.21 | 3.29
| May 31 | 6.25 | 3.40
| June 30 | 6.57 | 3.52
| July 31 | 6.78 | 3.55
| August 31 | 6.63 | 3.84
| September 30 | 6.48 | 3.82
| October 31 | 6.48 | 3.82
| November 30 | 6.48 | 3.82
SOUTHEAST ⁴ | March 31 | 6.27 | 3.64
| April 30 | 6.26 | 3.31
| May 31 | 6.41 | 3.51
| June 30 | 6.47 | 3.76
| July 31 | 6.74 | 3.70
| August 31 | 6.89 | 3.92
| September 30 | 6.84 | 4.00
| October 31 | 6.84 | 4.00
| November 30 | 6.84 | 4.00
ALL ⁵ | March 31 | 6.27 | 3.57
| April 30 | 6.22 | 3.32
| May 31 | 6.19 | 3.44
| June 30 | 6.35 | 3.68
| July 31 | 6.57 | 3.68
| August 31 | 6.48 | 3.99
| September 30 | 6.50 | 3.92
| October 31 | 6.50 | 3.92
| November 30 | 6.50 | 3.92
1. Note: In many instances prices have not been reported to comply with confidentiality guidelines that prevent price reports when there are fewer than three processors operating in a location during a month.
2. Landing locations Within Port Group—Bering Sea: Adak, Akutan, Akutan Bay, Atka, Bristol Bay, Chefornak, Dillingham, Captains Bay, Dutch Harbor, Egegik, Ikatan Bay, Hooper Bay, King Cove, King Salmon, Kipnuk, Mekoryuk, Naknek, Nome, Quinhagak, Savoonga, St. George, St. Lawrence, St. Paul, Togiak, Toksook Bay, Tununak, Beaver Inlet, Ugadaga Bay, Unalaska.
3. Landing Locations Within Port Group—Central Gulf of Alaska: Anchor Point, Anchorage, Alitak, Chignik, Cordova, Eagle River, False Pass, West Anchor Cove, Girdwood, Chinitna Bay, Halibut Cove, Homer, Kasilof, Kenai, Kenai River, Alitak, Kodiak, Port Bailey, Nikiski, Ninilchik, Old Harbor, Palmer, Sand Point, Seldovia, Resurrection Bay, Seward, Valdez, Whittier.
4. Landing Locations Within Port Group—Southeast Alaska: Angoon, Baranof Warm Springs, Craig, Edna Bay, Elfin Cove, Excursion Inlet, Gustavus, Haines, Hollis, Hoonah, Hyder, Auke Bay, Douglas, Tee Harbor, Juneau, Kake, Ketchikan, Klawock, Metlakatla, Pelican, Petersburg, Portage Bay, Port Alexander, Port Graham, Port Protection, Point Baker, Sitka, Skagway, Tenakee Springs, Thorne Bay, Wrangell, Yakutat.
5. Landing Locations Within Port Group—All: For Alaska: All landing locations included in 2, 3, and 4. For California: Eureka, Fort Bragg, Other California. For Oregon: Astoria, Aurora, Lincoln City, Newport, Warrenton, Other Oregon. For Washington: Anacortes, Bellevue, Bellingham, Nagai Island, Edmonds, Everett, Granite Falls, Ilwaco, La Conner, Port Angeles, Port Orchard, Port Townsend, Ranier, Fox Island, Mercer Island, Seattle, Standwood, Other Washington. For Canada: Port Hardy, Port Edward, Prince Rupert, Vancouver, Haines Junction, Other Canada.

Authority: 16 U.S.C. 1801 et seq.

Dated: December 3, 2014.
Alan D. Risenhoover,
Director, Office of Sustainable Fisheries, National Marine Fisheries Service.

[FR Doc. 2014-28724 Filed 12-8-14; 8:45 am]

BILLING CODE 3510-22-P